DEPARTMENT OF TRANSPORTATION

Federal Aviation Administration

14 CFR Part 39

[Docket No. FAA-2005-21594; Directorate Identifier 2005-NM-067-AD; Amendment 39-14309; AD 2005-20-15]

RIN 2120-AA64

Airworthiness Directives; McDonnell Douglas Model DC-10-10 and DC-10-10F Airplanes; Model DC-10-15 Airplanes; Model DC-10-30 and DC-10-30F (KC-10A and KDC-10) Airplanes; Model DC-10-40 and DC-10-40F Airplanes; Model MD-10-10F and MD-10-30F Airplanes; and Model MD-11 and MD-11F Airplanes

AGENCY: Federal Aviation Administration (FAA), Department of Transportation (DOT).

ACTION: Final rule.

SUMMARY: The FAA is adopting a new airworthiness directive (AD) for certain McDonnell Douglas transport category airplanes. This AD requires an inspection of the rudder pedal torque tube assembly for cracking; an inspection of the torque tube assembly to determine the thickness of the torque tube wall, if necessary; and replacing the rudder torque tube with a new or serviceable rudder torque tube, if necessary. This AD results from a report of a broken rudder pedal torque tube. We are issuing this AD to prevent failure of a rudder pedal torque tube, which could result in loss of rudder control and nose wheel steering controlled by the rudder pedal, and consequent reduced controllability of the airplane.

DATES: This AD becomes effective November 10, 2005.

The Director of the Federal Register approved the incorporation by reference of certain publications listed in the AD as of November 10, 2005.

ADDRESSES: You may examine the AD docket on the Internet at http://dms.dot.gov or in person at the Docket Management Facility, U.S. Department of Transportation, 400 Seventh Street SW., Nassif Building, room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model DC-10-10 and DC-10-10F airplanes; Model DC-10-15 airplanes; Model DC-10-30 and DC-10-30F (KC-10A and KDC-10) airplanes; Model DC-10-40 and DC-10-40F airplanes; Model MD-10-10F and MD-10-30F airplanes; and Model MD-11 and MD-11F airplanes. That NPRM was published in the Federal Register on June 22, 2005 (70 FR 36070). That NPRM proposed to require an inspection of the torque tube assembly for the rudder pedal for cracking; an inspection of the torque tube assembly to determine the thickness of the torque tube wall, if necessary; and replacing the rudder torque tube with a new or serviceable rudder torque tube, if necessary.

Comments

We provided the public the opportunity to participate in the development of this AD. We have considered the comments received.

Request To Revise Service Bulletin References

One commenter, the manufacturer, requests that we delete reference to Appendix B from paragraph (f) of the NPRM and delete reference to Appendix A from paragraph (g) of the NPRM. The commenter states that these revisions are consistent with the intent of Boeing Alert Service Bulletin DC10-27A236; and Boeing Alert Service Bulletin MD11-27A083, both dated February 17, 2005, and eliminate any potential confusion operators might have with the NPRM.

We agree with the request. We acknowledge that referencing both Appendices A and B in both paragraphs (f) and (g) of this AD might be confusing to operators. The service bulletins reference Appendix A for inspecting the rudder pedal torque tube assembly for cracks (required by paragraph (f) of this AD) and reference Appendix B for inspecting the rudder pedal torque tube to determine the thickness of the tube wall (required by paragraph (g) of this AD). Since the service bulletins reference the applicable appendix in the accomplishment instructions, we do not need to cite them in this AD. Therefore, we have deleted reference to both Appendix A and Appendix B from both paragraphs (f) and (g) of this AD.

Request To Revise the Format of the NPRM

The same commenter requests that we make the following editorial changes to the NPRM:

• Move the compliance time from paragraph (f) to paragraph (e) of the NPRM.

• Delete the compliance time from paragraph (g) of the NPRM.

• Clarify that the special detailed eddy current inspection is a “one-time” inspection of the “rudder pedal torque tube assembly” for “existing” cracks.

• Clarify that the special detailed ultrasonic inspection of the rudder pedal torque tube assembly is for “minimum wall thickness.”

• Clarify that the unsafe condition “* * * could result in “partial” loss of rudder control and nose wheel steering * * *.”

• State that replacement of the rudder torque tube, if necessary, is meant to “insure the integrity of the system.”

The commenter states that these revisions are consistent with the intent of the referenced Boeing service bulletins, and would eliminate any potential confusion operators might have with the NPRM.

We partially agree. We have revised the Summary and paragraphs (f) and (g) of this AD to specify that the inspections are of the “rudder pedal torque tube assembly.” We disagree with moving the compliance time to paragraph (e) of this AD; the intent of that paragraph is to give credit for actions previously accomplished before issuance of this AD, so it would be inappropriate to include compliance times in that paragraph. We infer that the commenter requests to delete the compliance time from paragraph (g) of the NPRM because the commenter believes it is not necessary to include that information in the AD. We do not agree, since according to the service bulletins the inspection in paragraph (g) of this AD is an on-condition action that must be accomplished if no cracking is found during the inspection required by paragraph (f) of this AD. This AD must state a compliance time for performing the on-condition inspection.

We also disagree with adding a phrase stating that the on-condition replacement “* * * will insure the integrity of the system.” The purpose of the SUMMARY section is to identify the required actions of an AD and the unsafe condition they are intended to address; it would be inappropriate to include any other information in this section. We have determined that the other revisions that the commenter suggests do not change the meaning of the AD in any substantive way. Therefore, no other change to this AD is necessary.

Request To Revise “Cost of Compliance”

The same commenter requests that we revise the estimated work hours in the NPRM for replacing the rudder pedal torque tube. The commenter states that Boeing Alert Service Bulletin DC10-27A236 estimates that the proposed replacement would take 96 total work hours for Model DC-10-10 and DC-10-10F airplanes; Model DC-10-15 airplanes; Model DC-10-30 and DC-10-30F (KC-10A and KDC-10) airplanes; Model DC-10-40 and DC-10-40F airplanes; and Model MD-10-10F and MD-10-30F airplanes. The commenter also states that Boeing Alert Service Bulletin MD11-27A083 estimates that the proposed replacement would take 18 hours for Model MD-11 and MD-11F airplanes. These estimates include time for gaining access, removing and replacing the torque tube, adjusting (for Model MD-11 and MD-11F airplanes), and closing access.

We disagree. The estimated work hours in AD rulemaking actions represent only the time necessary to perform the specific actions actually required by the AD. These figures typically do not include incidental costs, such as the time required to gain access and close up, planning time, or time necessitated by other administrative actions. Furthermore, replacement of the rudder pedal torque tube is an “on-condition” action. Typically, the “Cost of Compliance” is limited only to the cost of actions actually required by the rule. It does not consider the costs of “on-condition” actions because, regardless of AD direction, those actions would be required to correct an unsafe condition identified in an airplane and ensure operation of that airplane in an airworthy condition, as required by the Federal Aviation Regulations. Therefore, no change is necessary to this AD in this regard.

Request To Extend Compliance Time

One commenter requests that we extend the compliance time of the inspection from 6 months to 12 months after the effective date of the AD. The commenter states that 6 months is not enough time to inspect all of its 130 airplanes affected by the NPRM.

We do not agree, since the commenter has provided no technical justification for extending the compliance time. In developing an appropriate compliance time for this action, we considered the safety implications, the practical aspect of accomplishing the required inspection within a period of time that corresponds to the normal scheduled maintenance for most affected operators, and the recommendation of the manufacturer. However, according to the provisions of paragraph (h) of this AD, we may approve requests to adjust the compliance time if the request includes data that prove that the new compliance time would provide an acceptable level of safety.

Explanation of Changes Made to This AD

We have revised the “Alternative Methods of Compliance (AMOCs)” paragraph in this AD to clarify the delegation authority for Authorized Representatives for the Boeing Commercial Airplanes Delegation Option Authorization.

We have also revised this AD to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 960 airplanes of the affected design in the worldwide fleet. This AD affects about 366 airplanes of U.S. registry. The inspection takes about 16 work hours per airplane, at an average labor rate of $65 per work hour. Based on these figures, the estimated cost of the inspection for U.S. operators is $380,640, or $1,040 per airplane.

For Model DC-10-10 and DC-10-10F airplanes; Model DC-10-15 airplanes; Model DC-10-30 and DC-10-30F (KC-10A and KDC-10) airplanes; Model DC-10-40 and DC-10-40F airplanes; and Model MD-10-10F and MD-10-30F airplanes: The replacement if necessary takes about 16 work hours per airplane, at an average labor rate of $65 per work hour. Required parts cost about $12,892 per airplane. Based on these figures, the estimated cost of the replacement if necessary is $13,932 per airplane.

For Model MD-11 and MD-11F airplanes: The replacement if necessary takes about 5 work hours per airplane, at an average labor rate of $65 per work hour. Required parts cost about $12,892 per airplane. Based on these figures, the estimated cost of the replacement if necessary is $13,217 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-15 McDonnell Douglas: Amendment 39-14309. Docket No. FAA-2005-21594; Directorate Identifier 2005-NM-067-AD.

Effective Date

(a) This AD becomes effective November 10, 2005.

Affected ADs

(b) None.

Applicability

(c) This AD applies to the airplanes identified in Table 1 of this AD; certificated in any category.

Table 1.—Applicability
McDonnell Douglas— | As identified in—
Model DC-10-10 and DC-10-10F airplanes; Model DC-10-15 airplanes; Model DC-10-30 and DC-10-30F (KC-10A and KDC-10) airplanes; Model DC-10-40 and DC-10-40F airplanes; and Model MD-10-10F and MD-10-30F airplanes | Boeing Alert Service Bulletin DC10-27A236, dated February 17, 2005.
Model MD-11 and MD-11F airplanes | Boeing Alert Service Bulletin MD11-27A083, dated February 17, 2005.

Unsafe Condition

(d) This AD results from a report of a broken rudder pedal torque tube. We are issuing this AD to prevent failure of a rudder pedal torque tube, which could result in loss of rudder control and nose wheel steering controlled by the rudder pedal, and consequent reduced controllability of the airplane.

Compliance

(e) You are responsible for having the actions required by this AD performed within the compliance times specified, unless the actions have already been done.

Eddy Current Inspection and Replacement if Necessary

(f) Within 6 months after the effective date of this AD, do a special detailed eddy current inspection of the rudder pedal torque tube assembly for cracks, in accordance with the Accomplishment Instructions of Boeing Alert Service Bulletin DC10-27A236, dated February 17, 2005; or Boeing Alert Service Bulletin MD11-27A083, dated February 17, 2005; as applicable. If any crack is found, before further flight, replace the rudder pedal torque tube with a new or serviceable rudder pedal torque tube, in accordance with the applicable service bulletin.

Ultrasonic Inspection and Replacement, if Necessary

(g) If no cracking is found during the special detailed eddy current inspection required by paragraph (f) of this AD, before further flight, do a special detailed ultrasonic inspection of the rudder pedal torque tube assembly to determine the wall thickness of the rudder pedal torque tube, in accordance with the Accomplishment Instructions of Boeing Alert Service Bulletin DC10-27A236, dated February 17, 2005; or Boeing Alert Service Bulletin MD11-27A083, dated February 17, 2005; as applicable.

(1) If the wall thickness of the torque tube is within the limits identified as area C in Appendix B of the applicable service bulletin, no further action is required by this AD.

(2) If the wall thickness of the torque tube is within the limits identified as area B in Appendix B of the applicable service bulletin, within 6,000 flight hours after doing the special detailed ultrasonic inspection, replace the torque tube with a new or serviceable torque tube, in accordance with the applicable service bulletin.

(3) If the wall thickness of the torque tube is below the minimum limits, which are identified as area A in Appendix B of the applicable service bulletin, before further flight, replace the torque tube with a new or serviceable torque tube, in accordance with the applicable service bulletin.

Alternative Methods of Compliance (AMOCs)

(h)(1) The Manager, Los Angeles Aircraft Certification Office (ACO), FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane, and the approval must specifically refer to this AD.

(3) Before using any AMOC approved in accordance with 14 CFR 39.19 on any airplane to which the AMOC applies, notify the appropriate principal inspector in the FAA Flight Standards Certificate Holding District Office.

Material Incorporated by Reference

(i) You must use Boeing Alert Service Bulletin DC10-27A236, dated February 17, 2005; or Boeing Alert Service Bulletin MD11-27A083, dated February 17, 2005, as applicable, to perform the actions that are required by this AD, unless the AD specifies otherwise. The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19869 Filed 10-5-05; 8:45 am]

BILLING CODE 4910-13-P